DEPARTMENT OF LABOR

Employment and Training Administration

[TA-W-50,578]

Cleveland Chair a/k/a Jackson Furniture Industries, Madisonville, Tennessee; Notice of Negative Determination Regarding Application for Reconsideration

By application of May 5, 2003, a petitioner requested administrative reconsideration of the Department's negative determination regarding eligibility to apply for Trade Adjustment Assistance (TAA), applicable to workers and former workers of the subject firm. The denial notice was signed on March 11, 2003, and published in the Federal Register on March 26, 2003 (68 FR 14706).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Cleveland Chair, Madisonville, Tennessee was denied because the “contributed importantly” group eligibility requirement of Section 222(3) of the Trade Act of 1974, as amended, was not met. The “contributed importantly” test is generally demonstrated through a survey of customers of the workers' firm. The survey revealed that none of the respondents increased their purchases of sewn chair covers. The company did not import sewn cloth chair covers or shift production to a foreign source in the relevant period.

In the reconsideration process, it was established that the company was also known under the name of Jackson Furniture Industries.

The petitioner asserts that the subject firm produced leather chair covers in addition to sewn cloth chair covers, and that the company shifted production to Mexico.

Further investigation, including contact with the company, confirmed that which was established in the original investigation in regard to these issues. First, although the company does import leather covers, leather chair covers have never been produced at the Madisonville facility. Second, no production has been shifted from the Madisonville facility to Mexico in the relevant period.

Conclusion

After review of the application and investigative findings, I conclude that there has been no error or misinterpretation of the law or of the facts which would justify reconsideration of the Department of Labor's prior decision. Accordingly, the application is denied.

Signed at Washington, DC this 5th day of June, 2003.
Elliott S. Kushner,
Certifying Officer, Division of Trade Adjustment Assistance.

[FR Doc. 03-15474 Filed 6-18-03; 8:45 am]

BILLING CODE 4510-30-P